DEPARTMENT OF THE INTERIOR

Bureau of Land Management

[OR-030-01-1020-PE: GP1-010222]

Notice of Meeting of John Day/Snake Resource Advisory Council

August 7, 2001.

AGENCY: Vale District, Bureau of Land Management, Interior.

ACTION: Meeting of John Day/Snake Resource Advisory Council (RAC): Pendleton, Oregon.

SUMMARY: On August 7, 2001 at 10:00 a.m. there will be a meeting of the John Day/Snake RAC at Tamastslikt Cultural Center located at the Wildhorse Resort Hotel, 72779 Highway 331, Pendleton, Oregon. The meeting is open to the public. Public comments will be received at 1 p.m. on August 7, 2001. The following topics will be discussed by the council: Program of work review; Counties Payment Act (1608 Act) update; Hells Canyon Subgroup update; RAC membership update; Blue Mountain Subgroup update; ICBEMP Subgroup update; OHV Subgroup update; Noxious Weeds Subgroup update; National Fire Plan update; John Day River Management Plan Update; Sage Grouse Subgroup update; a 15 minute round table for general issues.

FOR FURTHER INFORMATION CONTACT: Sandra L. Guches, Bureau of Land Management, Vale District Office, 100 Oregon Street, Vale, Oregon 97918, Telephone (541) 473-3144.

Sandra L. Guches,
Acting District Manager.

[FR Doc. 01-16785 Filed 7-3-01; 8:45 am]

BILLING CODE 4310-33-M